DEPARTMENT OF COMMERCE

National Oceanic and Atmospheric Administration

[RTID 0648-XE658]

Fisheries of the Exclusive Economic Zone Off Alaska; North Pacific Halibut and Sablefish Individual Fishing Quota Cost Recovery Program

AGENCY: National Marine Fisheries Service (NMFS); National Oceanic and Atmospheric Administration (NOAA), Commerce.

ACTION: Correction to notice of standard prices and fee percentage.

SUMMARY: NMFS is correcting the 2024 Individual Fishing Quota (IFQ) Cost Recovery Fee Notice. The published ex-vessel fishery value and actual fee percentage were incorrect. The original document was published in the Federal Register on December 26, 2024, and all other information remains unchanged and will not be repeated in this document.

FOR FURTHER INFORMATION CONTACT: Dana Whiteley, Fee Coordinator, 907-586-7231.

SUPPLEMENTARY INFORMATION:

Need for Correction

In the Federal Register of December 26, 2024, in 89 FR 105006, in FR Doc. 2024-31018, on page 105007, in column 3, paragraph 2, the percentage of management costs to fishery value for the 2024 calendar year was published as 5.2 percent of the standard ex-vessel value. The total fishery value found on page 105007, in column 3, paragraph 3 of the above document was published as a 43 percent decline from the prior year.

After publication it was discovered that many correctly reported landings were excluded from the fishery valuation calculation.

Correction

In the Federal Register of December 26, 2024, in 89 FR 105006, in FR Doc. 2024-31018, on page 105007, in column 3, paragraph 2, the percentage of management costs to fishery value for the 2024 calendar year is corrected to 3.4 percent. The total fishery value found on page 105007, in column 3, paragraph 3 of the above document is corrected to a 13 percent decline in fishery value from the prior year. Since 3.4 percent is still greater than the statutory cap of 3.0 percent as noted in the original document, the effective fee percentage for 2024 remains 3.0 percent.

Authority: 16 U.S.C. 1801 et seq.

Dated: April 14, 2025.
Kelly Denit,
Director, Office of Sustainable Fisheries, National Marine Fisheries Service.

[FR Doc. 2025-06673 Filed 4-17-25; 8:45 am]

BILLING CODE 3510-22-P